DEPARTMENT OF AGRICULTURE

Animal and Plant Health Inspection Service

[Docket No. APHIS-2018-0054]

Notice of Request for Revision to and Extension of Approval of an Information Collection; National Poultry Improvement Plan

ACTION: Revision to and extension of approval of an information collection; comment request.

SUMMARY: In accordance with the Paperwork Reduction Act of 1995, this notice announces the Animal and Plant Health Inspection Service's intention to request a revision to and extension of approval of an information collection associated with the National Poultry Improvement Plan.

DATES: We will consider all comments that we receive on or before October 23, 2018.

ADDRESSES: You may submit comments by either of the following methods:

• Federal eRulemaking Portal: Go to http://www.regulations.gov/#!docketDetail;D=APHIS-2018-0054.

• Postal Mail/Commercial Delivery: Send your comment to Docket No. APHIS-2018-0054, Regulatory Analysis and Development, PPD, APHIS, Station 3A-03.8, 4700 River Road, Unit 118, Riverdale, MD 20737-1238.

Supporting documents and any comments we receive on this docket may be viewed at http://www.regulations.gov/#!docketDetail;D=APHIS-2018-0054 or in our reading room, which is located in Room 1141 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: For information on the National Poultry Improvement Plan, contact Dr. Denise Heard, Senior Coordinator, National Poultry Improvement Plan, Veterinary Services, APHIS, 1506 Klondike Road, Suite 101, Conyers, GA 30094; (770) 922-3496. For more detailed information on the information collection, contact Ms. Kimberly Hardy, APHIS' Information Collection Coordinator, at (301) 851-2483.

SUPPLEMENTARY INFORMATION: Title: National Poultry Improvement Plan.

OMB Control Number: 0579-0007.

Type of Request: Revision to and extension of approval of an information collection.

Abstract: Under the Animal Health Protection Act (7 U.S.C. 8301 et seq.), the U.S. Department of Agriculture's Animal and Plant Health Inspection Service (APHIS) is authorized, among other things, to administer the National Poultry Improvement Plan (NPIP), the primary purpose of which is to protect the health of the U.S. poultry population. NPIP is a Federal-State-industry cooperative program for the improvement of poultry flocks and products through disease control techniques. Participation in all NPIP programs is voluntary, but flocks, hatcheries, and dealers of breeding poultry must first qualify as “U.S. Pullorum-Typhoid Clean” as a condition for participation in NPIP programs. The NPIP regulations are contained in 9 CFR part 56 and parts 145 through 147.

To administer the NPIP, APHIS requires a number of activities that include memoranda of understanding; summaries of flock, slaughter plant, and other poultry business participation in NPIP; flock inspection and check testing reports; hatchery inspections; requests for salmonella serotyping; requests for compartment and component registration; requests for component removal; component audits; and auditor applications. They also include flock selecting and testing reports; reports and summaries of sales of hatching eggs, chicks, and poults; reports and investigations of salmonella isolations in poultry; sentinel bird marking for identification prior to flock vaccination; appraisal and indemnity claims; compliance statements; and recordkeeping.

The information collection and recordkeeping activities described above represent Office of Management and Budget (OMB) control number 0579-0007, National Poultry Improvement Plan (NPIP), and OMB control number 0579-0445, National Poultry Improvement Plan and Auxiliary Provisions. After OMB approves this combined information collection package (0579-0007), APHIS will retire OMB control number 0579-0445.

We are asking OMB to approve our use of these information collection activities, as described, for an additional 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public burden for this collection of information is estimated to average 0.50 hours per response.

Respondents: State agriculture officials; flock owners; breeders; hatchery operators; table-egg, meat-type chicken, and meat-type turkey producers; feedlot and slaughter plant personnel; approved laboratory personnel; prospective and certified auditors; visitors; and associated entities.

Estimated annual number of respondents: 6,851.

Estimated annual number of responses per respondent: 34.

Estimated annual number of responses: 234,963.

Estimated total annual burden on respondents: 117,254 hours. (Due to averaging, the total annual burden hours may not equal the product of the annual number of responses multiplied by the reporting burden per response.)

All responses to this notice will be summarized and included in the request for OMB approval. All comments will also become a matter of public record.

Done in Washington, DC, this 21st day of August 2018.
Kevin Shea,
Administrator, Animal and Plant Health Inspection Service.

[FR Doc. 2018-18416 Filed 8-23-18; 8:45 am]

BILLING CODE 3410-34-P